DEPARTMENT OF HEALTH AND HUMAN SERVICES

Administration for Children and Families

Proposed Information Collection Activity; Comment Request

Title: Health Profession Opportunity Grants (HPOG) program.

OMB No.: 0970-0394.

Description: The Administration for Children and Families (ACF), U.S. Department of Health and Human Services (HHS) is proposing data collection activities as part of the Health Profession Opportunity Grants (HPOG) program. ACF has developed a multi-pronged research and evaluation approach for the HPOG program to better understand and assess the activities conducted and their results. The proposed data collection activities described in this notice will provide data for three evaluation components, the National Implementation Evaluation of the Health Profession Opportunity Grants to Serve TANF Recipients and Other Low-Income Individuals (HPOG-NIE) and the Impact Studies of the Health Profession Opportunity Grants (HPOG-Impact), and the Innovative Strategies for Increasing Self Sufficiency (ISIS) evaluation.

Two data collection efforts related to HPOG research were approved by OMB, including approval of a Performance Reporting System (PRS) (approved September 2011) and for collection of additional baseline data for the HPOG-Impact study (approved October 2012). One data collection of ISIS was approved (November 2011) and follow up data collection instruments are currently under review.

This 60-day notice describes the remaining data collection efforts for both HPOG-NIE and HPOG-Impact. Two of the proposed instruments will collect data from all of the ISIS sites. Information collection described under 1 through 9 will be included in the next OMB submission for review. Information collections 10 through 14 will be submitted in a future information collection clearance request.

The goal of HPOG-NIE is to describe and assess the implementation, systems change, and outcomes and other important information about the operations of the 27 HPOG grantees focused on TANF recipients and other low-income individuals. To achieve these goals, it is necessary to collect data about the HPOG program designs and implementation, HPOG partner and program networks and indicators of systems change, employers' perceptions of HPOG programs, the composition and intensity of HPOG services received, participant characteristics and HPOG experiences, and participant outputs and outcomes.

The goal of HPOG-Impact is to evaluate the effectiveness of approaches used by 20 of the HPOG grantees to provide TANF recipients and other low‐income individuals with opportunities for education, training and advancement within the health care field. HPOG-Impact also is intended to evaluate variation in participant impact that may be attributable to different HPOG program components and models. The impact study design is a classic experiment in which eligible applicants will be randomly assigned to a treatment group that is offered participation in HPOG and a control group that is not permitted to enroll in HPOG. Data collected from the HPOG participants served by these 20 grantees will also be used for the HPOG-NIE study.

The goal of ISIS is to test a range of promising career pathways strategies to promote education, employment, and self-sufficiency. Three HPOG grantees are in the ISIS evaluation along with 6 additional non-HPOG sites.

The information collection activities to be submitted in the next request package include:

(1) The HPOG-NIE sample frame questionnaire will ask respondents from each of the 27 TANF and low-income HPOG grantees to identify and provide contact information for potential respondents to the surveys described in items 2-4.

(2) The HPOG-NIE grantee survey will be administered to staff of the 27 TANF and low-income HPOG grantees and their major collaborators. The survey will collect information about the HPOG program context and about program administration, activities and services.

(3) The HPOG-NIE survey of HPOG program management and staff will collect information from HPOG staff in the 27 TANF and low-income HPOG grantee sites about their approaches to delivering key program services and activities, as well as beliefs and attitudes about the HPOG program and mission and priorities in serving its target population.

(4) The HPOG-NIE stakeholder/network survey will collect information about partner organizations' and stakeholders' roles, responsibilities, levels of investment, and perceptions of the viability and productivity of the program and stakeholder network in all 27 TANF and low-income HPOG grantee sites and the 6 additional non-HPOG ISIS sites.

(5) The HPOG-NIE employer survey will collect information about employers' perceptions of the overall healthcare labor market, firm-specific conditions and hiring practices, and their perceptions of and experience with the program in all 27 TANF and low-income HPOG grantee sites and the 6 additional non-HPOG ISIS sites.

(6) HPOG-Impact in-person implementation interviews with HPOG personnel will collect information about the grantees' rationale for applying for HPOG funding, administrative challenges, and challenges implementing programs as planned, as well as information about staff roles and responsibilities and perceptions of the program. The study will use the interviews to supplement and validate sections of the HPOG-NIE grantee survey (described above) in the 27 TANF and low-income HPOG grantee sites.

(7) HPOG-Impact additional in-person implementation interviews with HPOG personnel at systematic variation grantees will collect information about the implementation of HPOG program components that may be associated with variation in participant impacts in the 27 TANF and low-income HPOG grantee sites.

(8) The HPOG-Impact follow-up survey of both treatment and control group members will be administered approximately 15 months after baseline data collection and random assignment. The survey will collect data about outcomes of interest, including certifications and educational achievements, job placement, wages, and benefits. It also will collect some information about HPOG participants' tenure and experience in HPOG programming in all 20 HPOG Impact sites.

(9) The HPOG-NIE supplemental participant follow-up survey will be the same as the instrument developed for the HPOG-Impact follow-up survey but will be administered to participants from the four HPOG grantees focused on TANF recipients and other low‐income individuals that are not included in the HPOG-Impact study or the Innovative Strategies for Increasing Self-Sufficiency (ISIS) project.

Data collection activities to submit in a future information collection request include: (10) The HPOG-NIE follow-up stakeholder/network survey; (11) the HPOG-Impact second follow-up survey of both treatment and control group members; (12) the HPOG-NIE second supplemental participant follow-up survey; (13) HPOG-Impact follow-up data collection on children of HPOG-Impact study participants; and (14) the HPOG-NIE in-person interviews with HPOG managers and staff.

Respondents: Individuals enrolled in HPOG interventions; control group members; HPOG program managers; HPOG program staff, including instructors and case managers; representatives of partner agencies and stakeholders, including support service providers, education and vocational training providers, Workforce Investment Boards, TANF agencies, and local health care employers.

Annual Response Burden Estimates
[This information collection request is for a two-year period]
Instrument | Total number of respondents | Number of responses per respondent | Average burden hours per response | Total burden hours | Annual burden hours
1. HPOG-NIE sample frame questionnaire | 54 | 1 | 4 | 216 | 108
2. HPOG-NIE grantee survey | 135 | 1 | 0.67 | 90 | 45
3. HPOG-NIE survey of HPOG program management and staff | 540 | 1 | 0.5 | 270 | 135
4. HPOG-NIE stakeholder/network survey | 610 | 1 | 0.5 | 305 | 153
5. HPOG-NIE employer survey | 244 | 1 | 0.5 | 122 | 61
6. HPOG-Impact in-person implementation interviews with HPOG personnel | 216 | 1 | 1 | 216 | 108
7. HPOG-Impact additional in-person implementation interviews with HPOG personnel at systematic variation grantees | 100 | 1 | 1 | 100 | 50
8a. HPOG-Impact follow-up survey of HPOG participants | 3,416 | 1 | .75 | 2562 | 1281
8b. HPOG-Impact follow-up survey of control group members | 1708 | 1 | 0.5 | 854 | 427
9. HPOG-NIE supplemental participant follow-up survey | 600 | 1 | 0.75 | 450 | 225

Estimated Annual Response Burden Hours: 2,593.

In compliance with the requirement of section 3506 (c) (2) (A) of the Paperwork Reduction Act of 1995, the Administration for Children and Families (ACF), Department of Health and Human Services, is soliciting public comment on the specific aspects of the information collection described above. Copies of the proposed collection of information can be obtained and comments may be forwarded in writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Reports Clearance Officer.

[FR Doc. 2012-30686 Filed 12-19-12; 8:45 am]

BILLING CODE 4184-09-P